DEPARTMENT OF JUSTICE

Notice of Lodging Consent Decree Under the Comprehensive Environmental Response, Compensation and Liability Act

Notice is hereby given that on September 13, 2007, a proposed Consent Decree in United States of America v. Darcars of New Carrollton, Inc., Civil Action No. 2:07-cv-1235 was lodged with the United States District Court for the Western District of Pennsylvania.

In this action the United States sought to recover response costs from the defendant incurred by the United States in responding to releases or threatened releases of hazardous substances at or from the Breslube Penn Superfund Site (the “Site”) which is located in Moon Township, Allegheny County, Pennsylvania. The proposed Consent Decree resolves the liability of Darcars of New Carrollton, Inc. (“Darcars”), under Section 107(a)(3) of the Comprehensive Environmental Response, Compensation and Liability Act (CERCLA), 42 U.S.C. 9607(a)(3). Based on the amount of waste Darcars contributed to the Site, and EPA's volumetric ranking of waste at the Site, Darcars will pay $2,720.83 to resolve its liability. Darcars had timely expressed an intention to participate in the Third Round De Minimus Consent Decree entered by the Court on May 5, 2006, but was inadvertently excluded from that settlement.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. Darcars of New Carrollton, Inc., D.J. Ref. 90-11-3-1762/5.

The Consent Decree may be examined at the Office of the United States Attorney, Western District of Pennsylvania, 700 Grant Street, Suite 400, Pittsburgh, PA 15219, and at U.S. EPA Region 3, 1650 Arch Street, Philadelphia, PA 19103. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury or, if by e-mail or fax, forward a check in that amount to the Consent Decree Library at the stated address.

Robert Brook,
Assistant Chief, Environmental Enforcement Section, Environment and Natural Resources Division.

[FR Doc. 07-4745 Filed 9-26-07; 8:45 am]

BILLING CODE 4410-15-M